DEPARTMENT OF HEALTH AND HUMAN SERVICES

Centers for Disease Control and Prevention

Disease, Disability and Injury Prevention and Control Special Emphasis Panel: Innovative Technology Development Grant for the Assessment of Micronutrient Status in Humans, PA# 00077; Meeting

In accordance with section 10(a)(2) of the Federal Advisory Committee Act (Pub. L. 92-463), the Centers for Disease Control and Prevention (CDC) announces the following meeting.

Name: Disease, Disability and Injury Prevention and Control Special Emphasis Panel: Innovative Technology Development Grant for the Assessment of Micronutrient Status in Humans, PA# 00077.

Times and Dates:

9 a.m.-9:30 a.m., August 15, 2000 (Open)

9:30 a.m.-5 p.m., August 15, 2000 (Closed)

9 a.m.-3 p.m., August 16, 2000 (Closed)

Place: Doubletree Hotel Atlanta-Buckhead, 3340 Peachtree Rd., NE, Atlanta, GA 30326.

Status: Portions of the meeting will be closed to the public in accordance with provisions set forth in section 552b(c)(4) and (6), Title 5 U.S.C., and the Determination of the Associate Director for Management and Operations, CDC, pursuant to P. L. 92-463.

This notice is published less than 15 days prior to the meeting due to administrative delays.

Matters to be Discussed: The meeting will include the review, discussion, and evaluation of applications received in response to PA# 00077.

Contact Person for More Information: Charles H. Buxton, National Center for Environmental Health, CDC, 4770 Buford Hwy., m/s F18, Atlanta, Ga. 30341-3724. Telephone 770-488-4160, e-mail cbuxton@cdc.gov.

The Director, Management Analysis and Services Office, has been delegated the authority to sign Federal Register Notices pertaining to announcements of meetings and other committee management activities, for the both the Centers for Disease Control and Prevention and the Agency for Toxic Substances and Disease Registry.

Dated: August 4, 2000.
Carolyn J. Russell,
Director, Management Analysis and Services Office, Centers for Disease Control and Prevention.

[FR Doc. 00-20400 Filed 8-8-00; 2:19 pm]

BILLING CODE 4163-18-P